DEPARTMENT OF JUSTICE

Community Oriented Policing Services;

Public Meetings with Members of the Research Community, Subject-Matter Experts and the Public to Discuss Topics Relating to Policing

AGENCY: Community Oriented Policing Services, Justice.

ACTION: Notice of meeting.

SUMMARY: On December 18, 2014, President Barack Obama signed Executive Order 13684 titled “Establishment of the President's Task Force on 21st Century Policing” establishing the President's Task Force on 21st Century Policing (“Task Force”). The Task Force seeks to identify best practices and make recommendations to the President on how policing practices can promote effective crime reduction while building public trust and examine, among other issues, how to foster strong, collaborative relationships between local law enforcement and the communities they protect. The Task Force will be holding a public meeting to address the topic of Officer Safety & Wellness. The meeting agenda is as follows:

Call to Order

Invited witness testimony on Officer Safety & Wellness

Break

Discussion

DATES: The meeting date is: February 23, 2015, 9:00 a.m. to 5:00 p.m. Eastern Standard Time, Washington, DC.

ADDRESSES: The meeting location is the Newseum, 555 Pennsylvania Avenue, NW., Washington, DC, 20001. In order to be considered by the Task Force in advance of the meeting, comments relating to the topic area of Officer Safety & Wellness should be emailed in Adobe Acrobat format to Comment@taskforceonpolicing.us by Saturday, February 14, 2015. Written comments should be no more than five pages in length and no smaller than 12 point font. Citations should be put in an “endnote” format and do not count towards the page limit. Recommendations should be clearly identified in the text of the testimony. The public may also submit comments via U.S. Mail to: President's Task Force on Policing in the 21st Century, Office of Community Oriented Policing Services, U.S. Department of Justice, 145 N Street NE., 11th Floor, Washington, DC 20530

FOR FURTHER INFORMATION CONTACT: Director, Ronald L. Davis, 202-514-4229 or PolicingTaskForce@usdoj.gov.

Address all comments concerning this notice to PolicingTaskForce@usdoj.gov.

SUPPLEMENTARY INFORMATION: The meeting is open to the public with limited seating. Time will be allocated for hearing public comments. Depending on the number of persons wishing to comment and time available, the time for individual oral comments may be limited.

Accommodations requests: To request accommodation of a disability, please contact Jessica Drake at 202-457-7771, at least 10 days prior to the meeting, to give the Department of Justice as much time as possible to process your request.

Electronic Access and Filing Addresses

The Task Force is interested in receiving written comments including proposed recommendations from individuals, groups, advocacy organizations, and professional communities. Additional information on how to provide your comments will be posted to www.cops.usdoj.gov/policingtaskforce.

Availability of Meeting Materials: The agenda and other materials in support of the meeting will be available on the Task Force Web site at www.cops.usdoj.gov/policingtaskforce in advance of the meeting.

Ronald L. Davis,
Director, Office of Community Oriented Policing Services.

[FR Doc. 2015-01854 Filed 1-30-15; 8:45 am]

BILLING CODE 4410-AT-P